NATIONAL FOUNDATION ON THE ARTS AND HUMANITIES

National Endowment for the Humanities

Announcement of Award of a Non-Competitive Cooperative Agreement

AGENCY: National Endowment for the Humanities; National Foundation on the Arts and the Humanities.

ACTION: Notice of intention to award non-competitive cooperative agreement.

SUMMARY: NEH intends to award $491,049 to the National Native American Boarding School Healing Coalition (NABS) for continued survey work and prioritization of primary sources documenting the history of Indian boarding schools in the U.S.; digitization and description of 120,000 pages of federal boarding school records held by the National Archives and Records Administration (NARA); and collaboration among source communities, the National Indian Boarding School Digital Archive Data Aggregation Working Group, the Social Networks and Archival Context cooperative, and federal partners. This action is necessary to further the development of digital access to records significant to public understanding of the history and impacts of Indian boarding schools in the U.S. Because NABS has invested four years into developing a unique platform with the technical considerations to aggregate boarding school records of various sizes and formats and leads an established community of practice creating standards and best practices in boarding school record curation, NEH determined that a competition to fund the construction of a similar platform and capacities would be uneconomical and impractical.

DATES: The anticipated period of performance is January 1, 2024 to December 31, 2025.

FOR FURTHER INFORMATION CONTACT: Briann Greenfield, Director, Division Preservation & Access, 400 Seventh Street SW, Washington, DC 20024. Phone: 202.606.8422. Email: bgreenfield@neh.gov.

SUPPLEMENTARY INFORMATION: NEH is an independent federal agency created in 1965. It is one of the largest funders of humanities programs in the United States. Because democracy demands wisdom, NEH serves and strengthens our republic by promoting excellence in the humanities and conveying the lessons of history to all Americans. NEH accomplishes this mission by awarding grants for top-rated proposals examined by panels of independent, external reviewers.

NEH offers funding under the authority of 20 U.S.C. 956. Awards are subject to 2 CFR part 200 Uniform Administrative Requirements, Cost Principles, and Audit Requirements for Federal Awards, and the General Terms and Conditions for Awards to Organizations (for grants and cooperative agreements issued January 1, 2022 or later).

Dated: October 23, 2023.
Jessica Graves,
Paralegal Specialist, National Endowment for the Humanities.

[FR Doc. 2023-23658 Filed 10-25-23; 8:45 am]

BILLING CODE 7536-01-P